DEPARTMENT OF TRANSPORTATION

National Highway Traffic Safety Administration

[Docket No. NHTSA-2016-0108; Notice 1]

Reflex & Allen USA, Incorporated, Receipt of Petition for Decision of Inconsequential Noncompliance

AGENCY: National Highway Traffic Safety Administration (NHTSA), Department of Transportation (DOT).

ACTION: Receipt of petition.

SUMMARY: Reflex & Allen USA, Incorporated (RAUS), has determined that certain Reflex & Allen air brake tubing products do not fully comply with Federal Motor Vehicle Safety Standard (FMVSS) No. 106, Brake Hoses. RAUS filed a defect report dated September 1, 2016, and amended it on September 13, 2016. RAUS also petitioned NHTSA on September 30, 2016, for a decision that the subject noncompliance is inconsequential as it relates to motor vehicle safety.

DATES: The closing date for comments on the petition is December 27, 2016.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

Reflex & Allen USA, Incorporated (RAUS), has determined that certain Reflex & Allen air brake tubing products do not fully comply with paragraph S7.2.1 of Federal Motor Vehicle Safety Standard (FMVSS) No. 106, Brake Hoses. RAUS filed a report dated September 1, 2016, and amended it on September 13, 2016, pursuant to 49 CFR part 573, Defect and Noncompliance Responsibility and Reports. RAUS also petitioned NHTSA on September 30, 2016, under 49 CFR part 556 for a decision that the subject noncompliance is inconsequential as it relates to motor vehicle safety.

Pursuant to 49 U.S.C. 30118(d) and 30120(h) and 49 CFR part 556, RAUS submitted a petition for an exemption from the notification and remedy requirements of 49 U.S.C. Chapter 301 on the basis that this noncompliance is inconsequential as it relates to motor vehicle safety.

This notice of receipt of RAUS's petition is published under 49 U.S.C. 30118 and 30120 and does not represent any agency decision or other exercise of judgment concerning the merits of the petition.

II. Hoses Involved

Approximately 4,500 Reflex & Allen air brake tubing products manufactured between October 16, 2015 and August 30, 2016 are potentially involved.

III. Noncompliance

RAUS explains that the noncompliance is that the subject brake hoses are labeled at intervals ranging from 6.5 inches to 11.5 inches, thereby exceeding 6-inch maximum spacing required by paragraph S7.2.1 of FMVSS No. 106.

IV. Rule Text

Paragraph S7.2.1 of FMVSS No. 106 states:

S7.2.1 Hose. Each air brake hose shall be labeled, or cut from bulk hose that is labeled, at intervals of not more than 6 inches, measured from the end of one legend to the beginning of the next, in block capital letters and numerals at least one-eighth of an inch high, with the information listed in paragraphs (a) through (e) of this section. The information need not be present on hose that is sold as part of a brake hose assembly or a motor vehicle.

V. Summary of RAUS's Petition

RAUS described the subject noncompliance and stated its belief that the noncompliance is inconsequential as it relates to motor vehicle safety.

In support of its petition, RAUS submitted the following reasoning:

(a) RAUS notified NHTSA in a 573 report in early September of 2016 of a potential noncompliance within a population of air brake tubing products. The report was subsequently amended to correct affected part numbers. As described in RAUS's noncompliance notification, the subject air brake tubing is labeled with the complete and correct identifying data, but due to a production error, the labelling appears at intervals that exceed the 6-inch maximum spacing required by the standard.

(b) RAUS noted that all of the affected products are labeled in accordance with the requirements of FMVSS No. 106 S7.2.1 with the exception of print legend spacing.

(c) These products are sold only to one Original Equipment Manufacturer, Volvo Trucks North America (VTNA), which then paints the complete chassis to include painting over the tubing. All of these products meet all of the applicable performance requirements of FMVSS No. 106. These products perform exactly as designed. The safety of the vehicle is uncompromised.

(d) The noncompliant products were produced between October 16, 2015 and August 30, 2016. VTNA first notified RAUS of the noncompliance on August 30, 2016. Immediately on that date, RAUS recalibrated the equipment to ensure compliance on all future tubing products and is conducting initial and secondary quality checks to guarantee compliance prior to shipment to VTNA. VTNA is the only customer that receives this product and is fully aware of the situation. RAUS fully believes that these labeling errors are inconsequential to motor vehicle safety because the tubing is properly identified with all required identifiers and meets the standards in every other way. The only noncompliance is the spacing in which the print legends exceed 6 inch intervals in various measurements ranging from 6.5 inches to 11.5 inches.

(e) This noncompliance does not create an unreasonable risk of death or injury in an accident, nor does it create any operational issues or safety concerns regarding the vehicle. The Safety Act allows for exemptions for manufacturers from the Safety Act's notice and remedy requirements particularly when the noncompliance does not create an unreasonable risk of death or injury in an accident.

(f) The subject brake tubing was marked correctly with all required identifiers yet the print legends fell beyond the maximum 6 inch intervals. This error is inconsequential to motor vehicle safety. One of the main purposes FMVSS No. 106, S7.2.1 is to identify the manufacturer of the brake tubing in the event of a product recall. If a recall of this air brake tubing were to become necessary in the future, the affected products could still be easily identified by the markings which are conspicuously printed on all of the tubing.

(g) There are several examples of NHTSA granting petitions from the reporting and notification requirements based on determinations of inconsequential noncompliance for similar marking/labeling issues including the granting of the Grote Industries LLC petition on January 23, 2015.

RAUS concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject hoses that RAUS no longer controlled at the time it determined that the noncompliance existed. However, any decision on this petition does not relieve equipment distributors and dealers of the prohibitions on the sale, offer for sale, or introduction or delivery for introduction into interstate commerce of the noncompliant hoses under their control after RAUS notified them that the subject noncompliance existed.

Authority: 49 U.S.C. 30118, 30120: delegations of authority at 49 CFR 1.95 and 501.8.

Jeffrey M. Giuseppe,
Director, Office of Vehicle Safety Compliance.

[FR Doc. 2016-28119 Filed 11-23-16; 8:45 am]

BILLING CODE 4910-59-P